NUCLEAR REGULATORY COMMISSION

[Docket No. 50-238; NRC-2009-0019]

Nuclear Ship Savannah; Notice of Receipt and Availability for Comment of Post Shutdown Decommissioning Activities Report

AGENCY: U.S. Nuclear Regulatory Commission (NRC).

ACTION: Notice of Receipt and availability for public inspection and comment of Post Shutdown Decommissioning Activities Report (PSDAR) for the Nuclear Ship Savannah (NS Savannah), Facility Operating License No. NS-1.

SUMMARY: On December 11, 2008, the U.S. Department of Transportation—Maritime Administration (MARAD) submitted its PSDAR for the NS Savannah. The PSDAR provides an overview of MARAD's proposed decommissioning activities, schedule, and costs for the NS Savannah. The NS Savannah was brought to power in 1961 and removed from service in 1970. Final reactor shutdown occurred in November 1970 and defueling was completed in fall 1971. The NS Savannah is currently located at the Canton Marine Terminal in Baltimore, Maryland. The PSDAR, dated December 11, 2008, was placed in NRC's Agency-wide Document Access and Management System (ADAMS) with Accession No. ML083500100.

DATES: Submit comments by February 13, 2009. Comments received after this date will be considered if it is practical to do so.

ADDRESSES: The public is invited to submit comments on the PSDAR. Comments may be submitted in written or electronic form. Comments will be made available for public inspection. Because your comments will not be edited to remove any identifying or contact information, the NRC cautions you against including any information in your submission that you do not want to be publicly disclosed. Written comments can be mailed to: John T. Buckley, U.S. Nuclear Regulatory Commission, Mail Stop T8F5, Washington, DC 20555-0001. Written comments can be hand delivered to: 11555 Rockville Pike, Rockville, Maryland 20852, between 7:30 a.m. and 4:15 p.m. Federal workdays. The PSDAR may be viewed electronically on the public computers located at the NRC's Public Document Room (PDR), Room O1 F21, One White Flint North, 11555 Rockville Pike, Rockville, Maryland. The PDR reproduction contractor will copy the PSDAR for a fee. The PSDAR is also available electronically at the NRC's Electronic Reading Room at http://www.nrc.gov/reading-rm/adams.html. From this site, the public can gain entry into ADAMS, which provides text and image files of the PSDAR through Accession No. ML083500100. If you do not have access to ADAMS or if there are problems in accessing the documents located in ADAMS, contact the PDR Reference staff at 1-800-397-4209, 301-415-4737 or by e-mail to pdr@nrc.gov.

FOR FURTHER INFORMATION CONTACT: John T. Buckley, Division of Waste Management and Environmental Protection, Office of Federal and State Materials and Environmental Management Programs, U.S. Nuclear Regulatory Commission, Washington, DC 20555-0001, Telephone: 301-415-6607 or Toll Free: 800-368-5642, x-6607, or e-mail john.buckley@nrc.gov.

Dated at Rockville, Maryland, this 21st day of January 2009.
For the Nuclear Regulatory Commission.
John T. Buckley,
Senior Project Manager, Decommissioning and Uranium Licensing Directorate, Division of Waste Management and Environmental Protection, Office of Federal and State Materials and Environmental Management Programs.

[FR Doc. E9-1778 Filed 1-27-09; 8:45 am]

BILLING CODE 7590-01-P